FEDERAL COMMUNICATIONS COMMISSION

47 CFR Parts 1 and 54

[GN Docket No. 20-32; Report No. 3165; FRS 17451]

Petitions for Reconsideration of Action in Rulemaking Proceeding

AGENCY: Federal Communications Commission.

ACTION: Petitions for Reconsideration; correction.

SUMMARY: This document corrects a date that appeared in the Federal Register on January 22, 2021. That Federal Register document, which invited comment on the Petitions for Reconsideration (Petitions) filed in the Commission's rulemaking proceeding, incorrectly listed the date by which replies to an opposition to the Petitions must be filed as February 16, 2021, rather than February 18, 2021.

DATES: Effective on February 5, 2021.

FOR FURTHER INFORMATION CONTACT: Valerie Barrish, Office of Economics and Analytics, Auctions Division, (202) 418-0660, or Valerie.Barrish@fcc.gov.

SUPPLEMENTARY INFORMATION: This document corrects the date by which by which replies to an opposition to the Petitions for Reconsideration (Petitions) filed in the Commission's rulemaking proceeding must be filed, published at 86 FR 6611 on January 22, 2021, which incorrectly listed that date as February 16, 2021, rather than February 18, 2021.

In FR Doc. 2021-00464 appearing on page 6611 in the Federal Register of Friday, January 22, 2021, the following corrections are made:

1. On page 6611, in the second column, in the DATES section, the statement “Replies to an opposition must be filed on or before February 16, 2021” is corrected to read “Replies to an opposition must be filed on or before February 18, 2021.”

Federal Communications Commission.
Marlene Dortch,
Secretary.

[FR Doc. 2021-02437 Filed 2-4-21; 8:45 am]

BILLING CODE 6712-01-P